DEPARTMENT OF AGRICULTURE

Office of Advocacy and Outreach

Beginning Farmers and Ranchers Advisory Committee

AGENCY: Office of Advocacy and Outreach, USDA

ACTION: Notice of Public Meeting.

SUMMARY: Pursuant to the Federal Advisory Committee Act (FACA), the Office of Advocacy and Outreach (OAO) is announcing a meeting of the Beginning Farmers and Ranchers Advisory Committee (BFRAC). The committee is being convened to consider issues involving barriers for beginning farmers and ranchers, including lending and access to U.S. Department of Agriculture (USDA) programs, resources, and land. The members will continue deliberations on recommendations to be prepared for USDA Secretarial consideration as discussed during the recent in-person meeting held in Cleveland, Ohio, September 29-30, 2016.

DATES: The committee meeting is scheduled for Monday, December 19, 2016, 2:30-4:30 p.m., EST, via teleconference. The meeting will be open to the public. All persons wishing to make comments during this meeting will be allowed a maximum of three minutes. If the number of registrants requesting to speak is greater than what can be reasonably accommodated during the scheduled open public teleconference meeting timeframe, speakers will be scheduled on a first-come basis. Public written comments for the committee's consideration may be submitted by close of business on December 16, 2016, to Mrs. Kenya Nicholas, Designated Federal Official, USDA OAO, 1400 Independence Avenue SW., Room 520-A, Washington, DC 20250-0170, Phone (202) 720-6350, Fax (202) 720-7704, Email: acbfr@osec.usda.gov. Written submissions are encouraged to either be less than one page in length, or be accompanied by an executive summary and a summary of policy initiatives.

A listen-only line will be available during the entire meeting for all who wish to listen in on the meeting or make public comments through the following telephone number: 1 (888) 455-1685 and enter passcode 1047915#. Members of the public may also submit written comments for consideration to the committee via email at: acbfr@osec.usda.gov or fax to: (202) 720-7136.

FOR FURTHER INFORMATION CONTACT: Questions should be directed to Phyllis Morgan, Executive Assistant, OAO, 1400 Independence Avenue SW., Whitten Building, Room 520-A, Washington, DC 20250, Phone: (202) 720-6350; Fax: (202) 720-7704; email: Phyllis.Morgan@osec.usda.gov.

SUPPLEMENTARY INFORMATION: The BFRAC last met in Cleveland, Ohio, on September 29-30, 2016. The Secretary tasked the BFRAC with providing recommendations on access to land, farm business transition, and land tenure. They also considered issues around lending and credit in parsing statistics generated by USDA. Please visit our Web site at: http://www.outreach.usda.gov/smallbeginning/index.htm for additional information on the BFRAC.

Members of the public who wish to make comments during the committee meeting are asked to pre-register for the meeting by midnight on December 16, 2016. You may pre-register for the public meeting by submitting an email to acbfr@osec.usda.gov with your name, organization or affiliation, or any comments for the committee's consideration. You may also fax this information to (202) 720-7704. The agenda is as follows: Committee discussions and public comments and continued, and continued committee deliberations. Please visit the BFRAC Web site for the full agenda. All agenda topics and documents will be made available to the public by December 16, 2016, at: http://www.outreach.usda.gov/smallbeginning/index.htm.

Meeting Accommodations: USDA is committed to ensuring that everyone is accommodated in our work environment, programs, and events. If you are a person with a disability and request reasonable accommodations to participate in this meeting, please contact Mrs. Kenya Nicholas in advance of the meeting by or before noon on December 16, 2016, by phone at (202) 720-6350, fax (202) 720-7704, or email: kenya.nicholas@osec.usda.gov.

Issued in Washington, DC, this 30 day of November 2016.
Christian Obineme,
Associate Director, Office of Advocacy and Outreach.

[FR Doc. 2016-29374 Filed 12-7-16; 8:45 am]

BILLING CODE P